FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 26, 2014.

A. Federal Reserve Bank of Minneapolis (Jacquelyn K. Brunmeier, Assistant Vice President) 90 Hennepin Avenue, Minneapolis, Minnesota 55480-0291:

1. James Wallenfelsz, trustee of the Wallenfelsz Revocable Trust for BHC Stock, both in North Oaks, Minnesota; to acquire voting shares of N.A. Corporation, and thereby indirectly acquire voting shares of North American Banking Company, both in Roseville, Minnesota.

Board of Governors of the Federal Reserve System, November 5, 2014.
Michael J. Lewandowski,
Associate Secretary of the Board.

[FR Doc. 2014-26666 Filed 11-10-14; 8:45 am]

BILLING CODE 6210-01-P